GENERAL ACCOUNTING OFFICE

Federal Accounting Standards Advisory Board

AGENCY: General Accounting Office.

ACTION: Notice of meeting on August 30-31, 2000.

Board Action: Pursuant to the Federal Advisory Committee Act (Pub. L. No. 92-463), as amended, and the FASAB Rules Of Procedure, as amended in October, 1999, notice is hereby given that the Federal Accounting Standards Advisory Board (FASAB) will meet on Wednesday, August 30, 2000, from 9:00 AM to 4:00 PM, and Thursday, August 31, 2000, from 9:00 AM to 4:00 PM, in room 7C13, the Elmer staats Briefing Room, 441 G St., NW, Washington, DC.

The purpose of the meeting is to discuss:

—Stewardship reporting issues,

—National Defense PP&E issues, and

—A request to amend SFFAS 7, Accounting for Revenue and Other Financing Sources.

A Steering Committee meeting of the Board's Principal Board members will be held in conjunction with the Board meeting. A more detailed agenda will be available after August 18 on the FASAB website (www.financenet.gov/fasab.htm) or by calling 202-512-7350.

Any interested person may attend the meeting as an observer. Board discussion and reviews are open to the public. Security requires advance notice of your attendance. Please notify FASAB by August 28 of your planned attendance by calling 202-512-7350.

FOR FURTHER INFORMATION CONTACT: Wendy Comes, Executive Director, 441 G St., N.W., Room 6814, Washington, D.C. 20548, or call (202) 512-7350.

Authority: Federal Advisory Committee Act. Pub. L. No. 92-463.

Dated: August 2, 2000.
Wendy M. Comes,
Executive Director.

[FR Doc. 00-19999 Filed 8-7-00; 8:45 am]

BILLING CODE 1610-01-M